MERIT SYSTEMS PROTECTION BOARD

Notice of Opportunity To Submit Ideas for Merit Systems Studies

AGENCY: Merit Systems Protection Board.

ACTION: Notice.

SUMMARY: The U.S. Merit Systems Protection Board (MSPB or Board) is updating its research agenda and seeks suggestions about possible topics of study.

DATES: Submissions are due June 5, 2014.

ADDRESSES: Submit ideas by mail to Research Agenda, U.S. Merit Systems Protection Board, Room 520, 1615 M Street NW., Washington, DC 20419; by fax to (202) 653-7211; or by email to research.agenda@mspb.gov.

FOR FURTHER INFORMATION CONTACT: John Ford at (202) 254-4499; or James Tsugawa at (202) 254-4506; or email research.agenda@mspb.gov.

SUPPLEMENTARY INFORMATION: MSPB conducts studies of the executive branch to ensure that Federal personnel management continues to be implemented consistent with the Merit System Principles and free from Prohibited Personnel Practices. Most of those studies are drawn from a multi-year research agenda that MSPB develops after reviewing suggested topics from the public. For more information about MSPB studies, see www.mspb.gov/studies.

The public is invited to submit ideas to be considered for inclusion in MSPB's research agenda by answering one or more of the following questions or submitting other pertinent ideas.

1. In your opinion, what is the most important issue affecting the management of the Federal workforce?

2. What is one thing in the Federal workplace that should be done more fairly?

3. What is one thing in the Federal workplace that should be done more efficiently or effectively?

4. There are several agencies and organizations involved in Federal workforce issues and policy, such as the U.S. Office of Personnel Management, the U.S. Government Accountability Office, the National Academy of Public Administration, and the Partnership for Public Service. What research could MSPB's Office of Policy and Evaluation conduct that would be distinct from the work of other agencies and organizations?

William D. Spencer,
Clerk of the Board.

[FR Doc. 2014-10333 Filed 5-5-14; 8:45 am]

BILLING CODE 7400-01-P